NUCLEAR REGULATORY COMMISSION

[Docket No. 50-390]

Tennessee Valley Authority; Notice of Withdrawal of Application for Amendment to Facility Operating License

The U.S. Nuclear Regulatory Commission (the Commission) has granted the request of the Tennessee Valley Authority (the licensee) to withdraw its May 8, 2006, application for proposed amendment to Facility Operating License No. NPF-90 for the Watts Bar Nuclear Plant, Unit No. 1, located in Rhea County, Tennessee.

The proposed amendment would have revised the Technical Specifications to increase the temperature limit of the ultimate heat sink.

The Commission had previously issued a Notice of Consideration of Issuance of Amendment published in the Federal Register on May 23, 2006 (71 FR 29681). However, by letter dated July 20, 2007, the licensee withdrew the proposed change.

For further details with respect to this action, see the application for amendment dated May 8, 2006, and the licensee's letter dated July 20, 2007, which withdrew the application for license amendment. Documents may be examined, and/or copied for a fee, at the NRC's Public Document Room (PDR), located at One White Flint North, Public File Area O1 F21, 11555 Rockville Pike (first floor), Rockville, Maryland. Publicly available records will be accessible electronically from the Agency-wide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 26th day of July 2007.
For the Nuclear Regulatory Commission.
Brendan T. Moroney,
Project Manager, Plant Licensing Branch II-2, Division of Operating Reactor Licensing, Office of Nuclear Reactor Regulation.

[FR Doc. E7-15047 Filed 8-1-07; 8:45 am]

BILLING CODE 7590-01-P